DEPARTMENT OF DEFENSE

Department of the Army, Corps of Engineers

Intent To Prepare an Environmental Impact Statement for Update of the Shoreline Management Plan and Supplement to the Master Plan, Eufaula Lake, OK

AGENCY: Department of the Army, U.S. Army Corps of Engineers, DoD.

ACTION: Notice of intent.

SUMMARY: The purpose of the Environmental Impact Statement (EIS) is to address alternatives and environmental impacts associated with an update of the Shoreline Management Plan (SMP) and supplement to the Master Plan (MP), Eufaula Lake, Oklahoma. The EIS would likewise evaluate alternatives and environmental impacts associated with specific proposals for recreational development facilities on Federal lands at Eufaula Lake as identified through the SMP update and MP supplement process.

ADDRESSES: Questions or comments concerning the proposed action should be addressed to Mr. Stephen L. Nolen, Chief, Environmental Analysis and Compliance Branch, Tulsa District, U.S. Army Corps of Engineers, CESWT-PE-E, 1645 S. 101st E. Ave., Tulsa, OK 74128-4629.

FOR FURTHER INFORMATION CONTACT: Mr. Stephen L. Nolen, (918) 669-7660, fax: (918) 669-7546, e-mail: Stephen.L.Nolen@usace.army.mil.

SUPPLEMENTARY INFORMATION: The Tulsa District, U.S. Army Corps of Engineers seeks to provide an update to the existing SMP and to supplement portions of the existing MP for Eufaula Lake, OK. Eufaula Lake is a multi-purpose reservoir impounded by Eufaula Dam on the Canadian River at river mile 27.0, about 12 miles east of Eufaula in McIntosh County, OK. Land and water resources at the lake are managed by the Tulsa District in accordance with regulations governing U.S. Army Corps of Engineers civil works projects. At Eufaula Lake, private shoreline uses to include private boat docks and vegetation modification are managed under a permit system dependent upon shoreline allocation classifications specified in the SMP in accordance with Engineer Regulation 1130-2-406. Reviews and updates to SMPs are periodically provided and the last update to the Eufaula Lake SMP occurred in 1998. Similarly, land resources at Eufaula Lake are managed in accordance with MP requirements as described in Engineer Pamphlet 1130-2-550. In the land allocation portion of the MP, all project lands are assigned categories which are used for determination of appropriate uses for these lands. The last update to the Eufaula Lake MP occurred in 1977. Owing to the elapsed time since last updates, changed conditions, and the need to assess lake-wide cumulative effects, the Tulsa District seeks to update the Eufaula Lake SMP and supplement the MP by updating the land allocation portion. Actions appropriate for updating these plans and preparing the EIS for the same will occur concurrently.

As the SMP and MP update processes involve public participation and input, it is possible that specific proposals for recreational or other development features involving project shorelines and/or lands may be received by the Tulsa District. For proposals that have advanced to a planning stage of sufficient detail to allow for proposal-specific alternative and impact analysis, the EIS would include these analyses. For reasonably-foreseeable development proposals that have not advanced to the point where proposal-specific analyses are possible, these will be assessed under cumulative impacts but will require additional analysis under the National Environmental Policy Act (NEPA) prior to their implementation at Eufaula Lake.

Reasonable alternatives to be considered include varying combinations of allocation classifications for both project shorelines and Federal lands at Eufaula Lake to include the no action alternative of retaining allocations in both the SMP and MP as they currently exist. For proposal-specific actions, alternatives would include varying development plans and features as well as the no action alternative.

Issues to be addressed in the EIS include but are not limited to: (1) Socioeconomic impacts associated with allocation classifications and specific development proposals, (2) matters pertaining to shoreline impacts, (3) potential impacts to cultural and ecological resources, (4) public access and safety, (5) impacts to lake use, public parks and recreation, (6) aesthetics, (7) infrastructure, (8) lake water quality, (9) traffic patterns, (10) terrestrial and aquatic fish and wildlife habitat, (11) Federally-listed threatened and endangered species, and (12) cumulative impacts associated with past, current, and reasonably foreseeable future actions at Eufaula Lake.

A public scoping meeting for the action will be conducted in early summer 2011 in Eufaula, OK or the vicinity. In addition, public workshops addressing updates to the SMP and MP may be held at locations near Eufaula Lake. News releases and notices informing the public and local, state, and Federal agencies of the proposed action and date of the public scoping meeting will be published in local newspapers. Comments received as a result of this notice, news releases, and the public scoping meeting will be used to assist the Tulsa District Corps of Engineers in identifying potential impacts to the quality of the human or natural environment. Affected Federal, state, or local agencies, affected Indian tribes, and other interested private organizations and parties are encouraged to participate in the scoping process by forwarding written comments to (see ADDRESSES) or attending the scoping meeting.

The draft EIS will be available for public review and comment. While the specific date for release of the draft EIS has yet to be determined, all interested agencies, tribes, organizations and parties expressing an interest in this action will be placed on a mailing list for receipt of the draft EIS. In order to be considered, any comments and suggestions should be forwarded to (see ADDRESSES) in accordance with dates specified upon release of the draft EIS.

Brenda S. Bowen,
Army Federal Register Liaison Officer.

[FR Doc. 2011-9902 Filed 4-22-11; 8:45 am]

BILLING CODE 3720-58-P